DEPARTMENT OF HEALTH AND HUMAN SERVICES

Centers for Disease Control and Prevention

[60Day-04-JT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda M. Perryman, CDC Assistant Reports Clearance Officer, 1600 Clifton Road, MS-D24, Atlanta, GA 30333 or send an e-mail to omb@cdc.gov. Written comments should be received within 14 days of this notice.

Proposed Project

Passenger Locator Card—New—National Center for Infectious Diseases (NCID), Centers for Disease Control and Prevention (CDC).

The Secretary of the U.S. Department of Health and Human Services (DHHS) has statutory responsibility for preventing the introduction, transmission, and spread of communicable diseases from foreign countries into the United States, e.g., at international ports of entry, and from one state or possession into another. Under its delegated authority by DHHS, the Division of Global Migration and Quarantine of the Centers for Disease Control and Prevention (CDC) is empowered to detain, medically examine, or conditionally release individuals suspected of carrying a communicable disease. Under foreign quarantine regulations, the master of a ship or captain of an airplane entering the United States from a foreign port is required by public health law to report certain illnesses among passengers (42 CFR 71.21). CDC has the authority to collect personal health information to protect the health of the public under the authority of Section 301 of the Public Health Service Act (42 U.S.C. 241).

People exposed to communicable diseases of public health importance while traveling on a conveyance should be notified as quickly as possible by public health authorities so they can be made aware of (1) their exposure, (2) told what to do if they become symptomatic, and (3) be medically monitored for a period after exposure, or given preventive treatment if indicated and readily available. In order to do this, emergency contact information is needed for all persons (passengers and crew) who traveled on the conveyance.

Presently, there are two circumstances that passenger locator information would be collected: (1) When a passenger is reported with signs and symptoms of a communicable illness; and, (2) In the event of a global disease outbreak. During the severe acute respiratory syndrome (SARS) outbreak in 2003, it was evident that current methods of using paper copies of airline manifests and customs information were inadequate to notify passengers potentially exposed to SARS within the incubation period (10 days). Airline manifests and custom declarations do not contain reliable emergency contact information. Manifests contain only the name and the seat number. Custom declarations are written by passengers and are often illegible or not complete. Names on the custom declarations do not necessarily match those on the manifests, phone numbers are not included, and only one custom declaration is filled out per family. The locating information maybe fairly complete; however, the person may no longer be at that address (e.g., temporary lodging).

Passengers on domestic flights do not complete custom declaration, therefore no reliable system exist to obtain emergency contact information for passengers on domestic conveyances. The estimated time to locate passengers using the current system is one month.

An emergency clearance is being requested because CDC has developed an airline passenger locator card to obtain the necessary information needed to notify passengers who may have been exposed to a communicable disease. Because of today's uncertainties, we are requesting OMB to grant approval most expeditiously.

Completing the passenger locator card and furnishing the requested information is voluntary; however, in order to prevent the spread of a disease, more complete information allows important public health functions such as adequate monitoring and follow-up of significant health events to be performed. To prevent the spread of communicable diseases, identifiable information may be shared with authorized DHHS personnel and public health or cooperating medical authorities. In addition to collecting detailed locator information, the passenger locator card can be scanned, which will increase the speed as well as accuracy of data collection and should allow for more timely notification of passengers when necessary. This package will be included in the next extension of the Foreign Quarantine Regulations (42 CFR Part 71) OMB No. 0920-0134. There are no costs to the respondents.

Annualized Burden Table
Type of notification | Number of respondents | Number of responses/respondent | Average burden/response (in hours) | Total burden hours
Outbreak of public health significance | 2,700,000 | 1 | 5/60 | 225,000
Ill passenger | 800 | 1 | 5/60 | 67
Total |  |  |  | 225,067

Dated: July 27, 2004.
Alvin Hall,
Director, Management Analysis and Services Office, Centers for Disease Control and Prevention.

[FR Doc. 04-17619 Filed 8-2-04; 8:45 am]

BILLING CODE 4163-18-P